DEPARTMENT OF HEALTH AND HUMAN SERVICES

National Institutes of Health

National Cancer Institute; Notice of Meeting

Pursuant to section 10(d) of the Federal Advisory Committee Act, as amended, notice is hereby given of the following meetings.

The meeting will be held as a teleconference only and is open to the public to dial-in for participation. Individuals who plan to dial-in to the meeting and need special assistance or other reasonable accommodations in order to do so, should notify the Contact Person listed below in advance of the meeting.

Name of Committee: National Cancer Institute Board of Scientific Advisors; Ad Hoc Subcommittee on HIV and AIDS Malignancy.

Date: May 24, 2019.

Time: 4:00 p.m. to 5:00 p.m.

Agenda: To discuss recommendations of the BSA Ad Hoc Working Group on Immunology of Therapies & Vaccines and Research Structure.

Place: National Institutes of Health, Building 10, Room 6N106, 10 Center Drive, Bethesda, MD 20892 (Telephone Conference Call). Dial: 1-650-479-3207, Access Code: 732 082 860.

Contact Person: Robert Yarchoan, M.D., Director, Office of HIV and AIDS Malignancy, Office of the Director, Chief, HIV and AIDS Malignancy Branch, Center for Cancer Research, National Cancer Institute, Building 10, Room 6N106, 10 Center Drive, Bethesda, MD 20892, 240-496-0328, Robert.Yarchoan@nih.gov.

Any interested person may file written comments with the committee by forwarding the statement to the Contact Person listed on this notice. The statement should include the name, address, telephone number and when applicable, the business or professional affiliation of the interested person.

Information is also available on the Institute's/Center's home page: https://deainfo.nci.nih.gov/advisory/bsa/bsa.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: April 4, 2019.
Melanie J. Pantoja,
Program Analyst, Office of Federal Advisory Committee Policy.

[FR Doc. 2019-06996 Filed 4-8-19; 8:45 am]

BILLING CODE 4140-01-P